DEPARTMENT OF COMMERCE

National Oceanic and Atmospheric Administration

[I.D. 081803B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has determined that an application for EFPs contains all of the required information and warrants further consideration. The Regional Administrator is considering the impacts of the activities to be authorized under the EFPs with respect to the Northeast (NE) Multispecies Fishery Management Plan (FMP). However, further review and consultation may be necessary before a final determination is made to issue EFPs. Therefore, NMFS announces that the Regional Administrator proposes to issue EFPs in response to an application submitted by the Cape Cod Commercial Hook Fisherman's Association (CCCHFA), in collaboration with Massachusetts Division of Marine Fisheries (DMF), and Manomet Center for Conservation Sciences (Manomet). These EFPs would allow up to 18 vessels (including 2 alternates) to fish for haddock using longline gear or jig gear in NE multispecies year-round Georges Bank (GB) Closed Area I (CA I) during the months of October through December 2003. The purpose of the study is to collect observer-based data to determine whether reinstating traditional access to GB CA I for haddock for hook-and-line fishermen while minimizing bycatch of GB cod is possible. This information could then be used by the New England Fishery Management Council (Council) and NMFS to determine the feasibility of establishing a traditional haddock hook-and-line fishery in CA I.

DATES: Comments on this action must be received at the appropriate address or fax number on or before September 10, 2003.

ADDRESSES: Written comments should be sent to Patricia A. Kurkul, Regional Administrator, NMFS, NE Regional Office, 1 Blackburn Drive, Gloucester, MA 01930. Mark the outside of the envelope “Comments on Haddock EFP Proposal.” Comments may also be sent via fax to (978) 281-9135. Comments will not be accepted if submitted via e-mail or the Internet.

Copies of the Draft Environmental Assessment (EA) are available from the NE Regional Office at the same address.

FOR FURTHER INFORMATION CONTACT: Heather Sagar, Fishery Management Specialist, phone: 978-281-9341, fax: 978-281-9135, email: heather.sagar@noaa.gov

SUPPLEMENTARY INFORMATION:

Background

Three year-round closed areas were established in 1994 under Amendment 5 to the FMP to provide protection to concentrations of regulated NE multispecies, particularly cod, haddock, and yellowtail flounder. These closure areas, CA I, Closed Area II and the Nantucket Lightship Closure Area, have proven to be effective in improving the stock status of several species, in particular of GB haddock. Spawning stock biomass for GB haddock declined from 69,000 mt in 1978 to 11,000 mt by 1993, and has since increased to 74,000 mt in 2001. Fishing pressure has been reduced by days-at-sea management, mesh sizes, and trip limits.

In their EFP application, the applicants indicated that common knowledge within the fishing and scientific communities suggests that cod are less available than haddock in certain portions of CA I. The applicants believe that there is a need to support this knowledge with scientific data, potentially enabling the rebuilt GB haddock resource to be utilized without impacting the management programs that currently protect the rebuilding of GB cod.

Proposed EFP

On August 7, 2003, CCCHFA, in collaboration with Massachusetts DMF and Manomet, submitted a complete application for 18 EFPs. Of the 18 EFPs, 11 would be issued to longline vessels (including 1 alternate) and 7 would be issues to jig vessels (including 1 alternate). Although 18 EFPs would be issued, only 16 vessels would take part in this study, as 2 vessels would be used as alternates only. The purpose of this study is to determine if a directed hook-gear fishery for haddock in GB CA I can occur with minimal impact to GB cod. Exemptions would be necessary to relieve vessels from the CA I restrictions specified under 50 CFR 648.81(a) and hook gear restrictions under 50 CFR 648.80(a)(4)(v) of the FMP.

The proposed study would occur in a specified area within the northwest portion of CA I, defined by the following Loran coordinates: 13700 X 43820; 13625 X 43820; 13625 X 43680; 13700 X 43680. The experiment would occur during the months of October and December 2003, during which approximately 3 longline and 2 jig trips would occur weekly, for a total of 64 day trips for the study. Participating vessels would be prohibited from fishing in areas outside of CA I during an experimental fishing trip. This study would follow normal fishing practices. A total allowable catch (TAC) of 15 mt for GB cod and 100 mt for GB haddock would be allowed for the experimental fishery. The applicant estimates that longline trips would average 1,500 to 3,000 lb (680 kg to 1,360 kg, respectively) of haddock and less then 300 lb (136 kg) of cod daily. Jig trips are estimated to land a maximum of 2,000 lb (907 kg) of haddock and less then 100 lb (45 kg) of cod daily. All fish landed would be subject to the minimum size and trip limit requirements.

Manomet scientific staff would be present on board each participating vessel, equating to 100-percent observer coverage for this experimental fishery. Observers would be responsible for collecting all biological and environmental data on NMFS observer forms. Manomet will also be developing a full report of results and will submit this information to the Regional Administrator monthly. The EFPs would contain a provision authorizing the Regional Administrator to continue the proposed experimental fishery on a month-by-month basis, e.g., if the cod TAC of 15 mt, or haddock TAC of 100 mt, is exceeded or projected to be exceeded by the end of December 2003.

A draft EA has been prepared that analyzes the impacts of the proposed experimental fishery on the human environment. This draft EA concludes that the activities proposed to be conducted under the requested EFPs are consistent with the goals and objectives of the FMP, would not be detrimental to the well-being of any stocks of fish harvested, and would have no significant environmental impacts. The draft EA also concludes that the proposed experimental fishery would not be detrimental to Essential Fish Habitat, marine mammals, or protected species.

EFPs would be issued to up to 18 vessels exempting them from the CA I, and 3,600-hook limit restrictions of the FMP.

Regulations under the Magnuson-Stevens Fishery Conservation and Management Act require publication of this notification to provide interested parties the opportunity to comment on applications for proposed EFPs.

Authority: 16 U.S.C. 1801 et seq.

Dated: August 19, 2003.
Bruce C. Morehead,
Acting Director, Office of Sustainable Fisheries, National Marine Fisheries Service.

[FR Doc. 03-21722 Filed 8-25-03; 8:45 am]

BILLING CODE 3510-22-S